DEPARTMENT OF HOMELAND SECURITY

Coast Guard

33 CFR Part 165

[Docket Number USCG-2025-0270]

RIN 1625-AA00

Safety Zone; Milwaukee Air and Water Show, Milwaukee, WI

AGENCY: Coast Guard, Department of Homeland Security (DHS).

ACTION: Notice of proposed rulemaking.

SUMMARY: The Coast Guard is proposing to amend a published safety zone for certain waters of Lake Michigan encompassing the Milwaukee Air and Water Show to include an additional day. This action is necessary to provide for the safety of life on these navigable waters in the vicinity of McKinley Park and Bradford Beach, during this recurring event on the third weekend in July. This proposed rulemaking would prohibit persons and vessels from being in the safety zone unless authorized by the Captain of the Port Sector Lake Michigan or a designated representative. We invite your comments on this proposed rulemaking.

DATES: Comments and related material must be received by the Coast Guard by May 8, 2025.

ADDRESSES: You may submit comments identified by docket number USCG-2025-0270 using the Federal Decision-Making Portal at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: If you have questions about this proposed rulemaking, call or email LCDR Jessica Anderson, Sector Lake Michigan Waterways Management Division, U.S. Coast Guard; telephone 414-747-7182, email Jessica.P.Anderson@uscg.mil.

SUPPLEMENTARY INFORMATION:

I. Table of Abbreviations

CFR Code of Federal Regulations

DHS Department of Homeland Security

FR Federal Register

NPRM Notice of proposed rulemaking

§ Section

U.S.C. United States Code

II. Background, Purpose, and Legal Basis

The Milwaukee Air and Water Show is a long-standing event that has occurred for 14 years. During that time, there have been numerous requests to establish a safety zone for four days in duration, rather than the three days currently enforced. The Captain of the Port Sector Lake Michigan (COTP) has determined that, due to the repetitive requests, it is pertinent to revise the current safety zone in 33 CFR 165.929, table 4 to § 165.929, line No. 29 for the Milwaukee Air and Water Show to add a fourth day for the event.

The purpose of this rulemaking is to ensure the safety of vessels and the navigable waters within an area approximately 5,000-yards by 1,500-yards before, during, and after the scheduled event, which would require expanding the enforcement period to include four days. The Coast Guard is proposing this rulemaking under authority in 46 U.S.C. 70034.

III. Discussion of Proposed Rule

The COTP is proposing to revise an established safety zone in 33 CFR 165.929, table 4 to § 165.929, line No. 29 for the Milwaukee Air and Water Show by adding a fourth day to the event. The Milwaukee Air and Water Show event is a recurring event held on the third weekend in July from 8 a.m. to 5 p.m. The safety zone would continue to cover all navigable waters of Lake Michigan in the vicinity of McKinley Park and Bradford Beach located within an area that is approximately 5,000 yards by 1,500 yards. The expanded duration of the zone is intended to ensure the safety of vessels and these navigable waters before, during, and after the scheduled Milwaukee Air and Water Show. No vessel or person would be permitted to enter the safety zone without obtaining permission from the COTP or a designated representative. The regulatory text we are proposing appears at the end of this document.

IV. Regulatory Analyses

We developed this proposed rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This NPRM has not been designated a “significant regulatory action” under section 3(f) of Executive Order 12866. Accordingly, the NPRM has not been reviewed by the Office of Management and Budget (OMB).

This regulatory action determination is based on the previous rulemaking and the additional day not substantially altering the previous regulation. Additionally, prior events have included temporary final rules to encompass the four-day timeframe.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

This regulatory action determination is based on the size, location, and duration of the safety zone. The regulation will be in effect only during the event listed in this regulation for which the COTP has determined pose risks to the safety of life and property for the maritime public and event participants. The size, location, and duration of the regulation will be limited to the extent necessary to minimize these risks. Moreover, the COTP will make advance notice of the enforcement of the regulation through the Local Notice to Mariners and/or Broadcast Notice to Mariners. This regulation also provides a means for anyone needing to transit through or within the safety zone to seek permission from the COTP.

If you think that your business, organization, or governmental jurisdiction qualifies as a small entity and that this proposed rule would have a significant economic impact on it, please submit a comment (see ADDRESSES) explaining why you think it qualifies and how and to what degree this rulemaking would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that order and have determined that it is consistent with the fundamental federalism principles and preemption requirements described in Executive Order 13132.

Also, this proposed rule does not have Tribal implications under Executive Order 13175 (Consultation and Coordination with Indian Tribal Governments) because it would not have a substantial direct effect on one or more Indian Tribes, on the relationship between the Federal Government and Indian Tribes, or on the distribution of power and responsibilities between the Federal Government and Indian Tribes. If you believe this proposed rule has implications for federalism or Indian Tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves expanding a long-standing safety zone from three days to four days. Normally such actions are categorically excluded from further review under paragraph L60(a) of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2025-0270 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons set out in the preamble, the Coast Guard proposes to amend 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. In § 165.929, amend table 4 by revising item 29 to read as follows:

§ 165.929 Safety Zones; annual events requiring safety zones in the Captain of the Port Lake Michigan Zone.

* * * * *

Table 4 to § 165.929—Safety Zones in the State of Wisconsin
Event | Location ¹ | Enforcement date ²
* * * * * * *
(29) Milwaukee Air and Water Show | Milwaukee, WI. All waters of Lake Michigan in the vicinity of McKinley Park and Bradford Beach located within an area that is approximately 5,000 yards by 1,500 yards. The area will be bounded by the points beginning at 43°02.455′ N, 087°52.880′ W; then southeast to 43°02.230′ N, 087°52.061′ W; then northeast to 43°04.451′ N, 087°50.503′ W; then northwest to 43°04.738′ N, 087°51.445′ W; then southwest to 43°02.848′ N, 087°52.772′ W; then returning to the point of origin | 4 days—Third weekend in July; 8 a.m. to 5 p.m.
* * * * * * *
¹ All coordinates listed in Table 4 of this section reference Datum NAD 1983.
² As noted in paragraph (a)(3) of this section, the enforcement dates and times for each of the listed safety zones are subject to change.

Dated: March 26, 2025.
Gregory J. Knoll,
Commander, U.S. Coast Guard, Acting Captain of the Port Sector Lake Michigan.

[FR Doc. 2025-05993 Filed 4-7-25; 8:45 am]

BILLING CODE 9110-04-P